DEPARTMENT OF COMMERCE

International Trade Administration

[A-533-889]

Certain Quartz Surface Products From India: Preliminary Results and Rescission, in Part, of Antidumping Duty Administrative Review; 2022-2023

AGENCY: Enforcement and Compliance, International Trade Administration, Department of Commerce.

SUMMARY: The U.S. Department of Commerce (Commerce) preliminarily determines that certain quartz surface products (quartz surface products) from India are not being sold in the United States at below normal value during the period of review (POR), June 1, 2022, through May 31, 2023. Additionally, Commerce is rescinding this administrative review with respect to certain companies. We invite interested parties to comment on these preliminary results.

DATES: Applicable July 9, 2024.

FOR FURTHER INFORMATION CONTACT: Laurel LaCivita or Anjali Mehindiratta, AD/CVD Operations, Office III, Enforcement and Compliance, International Trade Administration, U.S. Department of Commerce, 1401 Constitution Avenue NW, Washington, DC 20230; telephone: (202) 482-4243 or (202) 482-9127, respectively.

SUPPLEMENTARY INFORMATION:

Background

On June 22, 2020, Commerce published the antidumping duty order on quartz surface products from India.¹ On June 1, 2023, we published in the Federal Register a notice of opportunity to request an administrative review of the Order.² On August 3, 2023, pursuant to section 751(a)(1) of the Tariff Act of 1930, as amended (the Act), Commerce initiated an administrative review of the Order covering 77 entities.³ On February 6, 2024, Commerce extended the deadline for the preliminary results until June 28, 2024.⁴

¹ See Certain Quartz Surface Products from India and Turkey: Antidumping Duty Orders, 85 FR 37422 (June 22, 2020) (Order).

² See Antidumping or Countervailing Duty Order, Finding, or Suspended Investigation; Opportunity to Request Administrative Review and Join Annual Inquiry Service List, 88 FR 35835 (June 1, 2023).

³ See Initiation of Antidumping and Countervailing Duty Administrative Reviews, 88 FR 51271 (August 3, 2023) (Initiation Notice).

⁴ See Memorandum, “Extension of Deadline for Preliminary Results of Antidumping Duty Administrative Review,” dated February 6, 2024.

For a complete description of the events that followed the initiation of this review, see the Preliminary Decision Memorandum.⁵ A list of topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Administrative Review of the Antidumping Duty Order Quartz Surface Products from India; 2022-2023,” dated concurrently with, and hereby adopted by, this notice (Preliminary Decision Memorandum).

Scope of the Order

The products covered by this Order are quartz surface products. A full description of the scope of the Order is contained in the Preliminary Decision Memorandum.

Rescission of Review, In Part

As noted above, we initiated this review with respect to 77 companies.⁶ During the course of the review, we selected two mandatory respondents, which included three of the named companies.⁷ As a consequence, there are 74 companies upon which review was requested and which were not selected for individual examination.

⁶ See Initiation Notice. Commerce previously determined that Antique Marbonite Pvt Ltd., Prism Johnson Limited, and Shivam Enterprises are affiliated and treated these companies were as a single entity; thus, they were listed together in the Initiation Notice. See Initiation Notice, 88 FR at 51274. See also Certain Quartz Surface Products from India: Final Determination of Sales at Less Than Fair Value and Final Negative Determination of Critical Circumstances, 85 FR 25391 (May 1, 2020).

⁷ See Memorandum, “Respondent Selection,” dated September 14, 2023. In the prior review, we treated Marudhar Rocks International Pvt. Ltd. and Marudhar Quartz Surface Private Limited as a single entity. See Certain Quartz Surface Products from India: Final Results of Antidumping Duty Administrative Review, and Final Determination of No Shipments; 2021-2022, 88 FR 80689 (November 20, 2023).

Commerce received timely withdrawal requests with respect to 24 companies upon which we initiated the review within 90 days of the date of publication of the Initiation Notice. Therefore, Commerce is rescinding this review, in part, with respect to these 24 companies in accordance with 19 CFR 351.213(d)(1).⁸ In addition, pursuant to 19 CFR 351.213(d)(3), Commerce will rescind an administrative review when there are no reviewable suspended entries. Based on our analysis of U.S. Customs and Border Protection (CBP) information, 10 companies listed in the Initiation Notice had no entries of subject merchandise during the POR, including six for which timely withdrawals of requests for review were submitted and four for which no withdrawal requests were submitted. On May 6, 2024, we notified parties of our intent to rescind this administrative review with respect to the 10 companies that had no reviewable suspended entries during the POR.⁹ No party to the proceeding provided comments on our Intent to Rescind Memorandum. As a result, we are rescinding this review, in part, with respect to the four entities which had no entries in the POR and for which withdrawal requests were not previously received from all parties requesting review.¹⁰ Therefore, we are rescinding this review, in part, with respect to a total of 28 companies.¹¹

⁸ See Appendix II .

⁹ See Memorandum, “Notice of Intent to Rescind Review, In Part,” dated May 6, 2024 (Intent to Rescind Memorandum).

¹⁰ See Appendix II.

¹¹ Id.

Methodology

Commerce is conducting this review in accordance with section 751(a)(1)(B) of the Act. Export price was calculated in accordance with section 772 of the Act. Normal value was calculated in accordance with section 773 of the Act. For a full description of the methodology underlying our conclusions, see the Preliminary Decision Memorandum.

Rate for Non-Examined Companies

The Act and Commerce's regulations do not directly address the establishment of a rate to be applied to individual companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted-average dumping margins established for exporters and producers individually investigated, excluding any zero or de minimis margins, and any margins determined entirely {on the basis of facts available}.”

In this administrative review, we preliminarily calculated dumping margins of zero percent for both Marudhar Rocks and PESL. Thus, in accordance with the expected method, we preliminary assigned to the non-selected companies a zero percent rate, based on the rates calculated for the two mandatory respondents. As a consequence, if these results are unchanged in the final results of review, we will liquidate the entries of Marudhar, PESL and the non-selected companies without regard to antidumping duties.

Preliminary Results of Review

As a result of this review, we preliminarily determine the following estimated weighted-average dumping margins exist for the period June 1, 2022, through May 31, 2023:

Producer/exporter | Weighted- average dumping margin (percent)
Pokarna Engineered Stone Limited | 0.00
Marudhar Rocks International Pvt. Ltd./Marudhar Quartz Surface Private Limited | 0.00
Non-Individually Examined Companies ¹² | 0.00
¹² See Appendix III.

Disclosure and Public Comment

Commerce intends to disclose the calculations performed in connection with these preliminary results to interested parties within five days after the date of publication of this notice, or, if there is no public announcement, within five days of the date of publication of this notice in accordance with 19 CFR 351.224(b).¹³

¹³ See 19 CFR 351.224(b).

Interested parties may submit case briefs no later than 30 days after the date of publication of this notice.¹⁴ Rebuttal briefs, limited to issues raised in the case briefs, may be filed no later than five days after the date for filing case briefs.¹⁵ Interested parties who submit case briefs or rebuttal briefs in this proceeding must submit: (1) a table of contents listing each issue; and, (2) a table of authorities.¹⁶

¹⁴ See 19 CFR 351.309(c)(1)(ii)

¹⁵ See 19 CFR 351.309(d); see also Administrative Protective Order, Service, and Other Procedures in Antidumping and Countervailing Duty Proceedings, 88 FR 67069, 67077 (September 29, 2023) (APO and Service Procedures).

¹⁶ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁷ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁸

¹⁷ We use the term “issue” here to describe an argument that Commerce would normally address in a comment of the Issues and Decision Memorandum.

¹⁸ See APO and Service Procedures.

Interested parties who wish to request a hearing must submit a written request to the Assistant Secretary for Enforcement and Compliance, U.S. Department of Commerce, using Enforcement and Compliance's ACCESS system within 30 days of publication of this notice.¹⁹ Requests should contain the party's name, address, and telephone number, the number of participants, and a list of the issues to be discussed. Issues raised in the hearing will be limited to those raised in the case and rebuttal briefs. If a request for a hearing is made, we will inform parties of the scheduled date for the hearing at a time and location to be determined.²⁰ Parties should confirm by telephone the date, time, and location of the hearing no fewer than two days before the scheduled date. Parties are reminded that all briefs and hearing requests must be filed electronically using ACCESS and received successfully in their entirety by 5:00 p.m. Eastern Time on the due date.

¹⁹ See 19 CFR 351.310(c).

²⁰ See 19 CFR 351.310.

Unless the deadline is extended pursuant to section 751(a)(3)(A) of the Act and 19 CFR 351.213(h)(2), Commerce will issue the final results of this administrative review, including the results of our analysis of the issues raised by the parties in their case briefs, not later than 120 days after the date of publication of this notice, pursuant to section 751(a)(3)(A) of the Act.

Assessment Rates

Upon issuance of the final results, Commerce shall determine, and U.S. Customs and Border Protection (CBP) shall assess, antidumping duties on all appropriate entries covered by this review. The final results of this review shall be the basis for the assessment of antidumping duties on entries of merchandise covered by this review and for future deposits of estimated duties, where applicable.²¹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²¹ See section 751(a)(2)(C) of the Act.

If the respective weighted-average dumping margins are above de minimis (i.e., 0.50 percent) in the final results of this review, we will calculate importer-specific ad valorem antidumping duty assessment rates based on the ratio of the total amount of dumping calculated for the importer's examined sales to the total entered value of those same sales in accordance with 19 CFR 351.212(b)(1).²² If the respondent has not reported entered values, we will calculate a per-unit assessment rate for each importer by dividing the total amount of dumping calculated for the examined sales made to that importer by the total quantity associated with those sales. We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review and for future deposits of estimated duties, where applicable.²³

²² In these preliminary results, Commerce applied the assessment rate calculation method adopted in Antidumping Proceedings: Calculation of the Weighted-Average Dumping Margin and Assessment Rate in Certain Antidumping Proceedings; Final Modification, 77 FR 8101 (February 14, 2012).

²³ See section 751(a)(2)(C) of the Act.

In accordance with Commerce's “automatic assessment” practice, for entries of subject merchandise during the POR produced by the respondents for which they did not know that the merchandise was destined for the United States, we will instruct CBP to liquidate entries not reviewed at the all-others rate if there is no rate for the intermediate company(ies) involved in the transaction.

For the companies which were not selected for individual examination, we will instruct CBP to assess antidumping duties at an ad valorem assessment rate equal to the company-specific weighted-average dumping margin determined in these final results. For the companies for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the notice of the final results of the administrative review for all shipments of quartz surface products from India entered, or withdrawn from warehouse, for consumption on or after the date of publication of the final results, as provided by section 751(a)(2) of the Act: (1) the cash deposit rate for each company listed above will be equal to the dumping margins established in the final results of this review, except if the ultimate rate is de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original LTFV investigation but the producer is, then the cash deposit rate will be the rate established for the most recently completed segment of the proceeding for the producer of the merchandise; and (4) the cash deposit rate for all other producers or exporters will continue to be 1.02 percent, the all-others rate established in the antidumping duty investigation.²⁴ These cash deposit requirements, when imposed, shall remain in effect until further notice.

²⁴ See Order, 85 FR at 37423.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act, 19 CFR 351.213(h)(2), and 19 CFR 351.221(b)(4).

Dated: June 28, 2024.
Ryan Majerus,
Deputy Assistant Secretary for Policy and Negotiations, performing the non-exclusive functions and duties of the Assistant Secretary for Enforcement and Compliance.

Appendix I—List of Topics Discussed in the Preliminary Decision Memorandum

I. Summary

II. Background

III. Scope of the Order

IV. Rescission of Review, In Part

V. Companies Not Selected for Individual Examination

VI. Discussion of Methodology

VII. Currency Conversion

VIII. Recommendation

Appendix II—Companies Rescinded from Administrative Review

Companies for which all requests for review were timely withdrawn:

1 Advantis Quartz LLP

2 Chaitanya International Minerals LLP

3 Colors of Rainbow

4 EELQ Stone LLP

5 Geetanjali Quartz Pvt Ltd.

6 GS Exim

7 Haique Stones Inc.

8 INANI Marble and Industries Ltd.

9 Jyothi Quartz Surfaces

10 Krishna Sai Exports

11 Modern Surface Inc.

12 MQ surfaces Pvt Ltd.

13 Nice Quartz and Stones Pvt Ltd.

14 Paradigm Granite Pvt Ltd.

15 Pristine Quartz Pvt. Ltd.

16 Rudra Quartz LLP

17 Shivam Surface India LLP

18 Square Ft. Marble and granite

19 Stone Empire Pvt. Ltd.

20 SVG Exports Pvt Ltd.

21 Taanj Quartz Inc.

22 Tab Quartz

23 Trident Surface

24 Universall Granites

Companies reflecting no entries during the administrative review period and for which no comment was received in opposition to the Intent to Rescind Memorandum:

25 Amazoone Ceramics Ltd.

26 Pelican Grani Marmo Pvt. Ltd.

27 PM Quartz Surfaces Pvt Ltd.

28 RMC Readymix Porselano India Limited

Appendix III—Non-Individually Examined Companies Receiving a Review-Specific Rate

1 3HQ Surfaces Pvt. Ltd.

2 Antique Granito Shareholders Trust

3 Antique Marbonite Pvt Ltd; Prism Johnson Limited; Shivam Enterprises

4 Argil Ceramics

5 ARO Granite Industries Ltd.

6 ASI Industries Limited

7 Asian Granito India Ltd.

8 Baba Super Minerals Pvt Ltd.

9 Camrola Quartz Limited

10 Classic Marble Co Pvt Ltd.

11 Cuarzo

12 Divine Surfaces Private Limited

13 Divya Shakti Granites Ltd.

14 Divya Shakti Ltd.

15 Esprit Stones Pvt Ltd.

16 Evetis Stone Pvt Ltd.

17 Global Stones Pvt. Ltd.

18 Global Surfaces Ltd.

19 Glowstone Industries Pvt Ltd.

20 Hi Elite Quartz LLP

21 Imperiaal Granimarmo Pvt Ltd.

22 Indus Trade and Technology LLC

23 Internaational Stones India Pvt. Ltd.

24 Keros Stone LLP

25 Mahi Granites Pvt Ltd.

26 Malbros Marbles and Granites Industries

27 Mountmine Impex Pvt Ltd.

28 Pacific Industries Ltd.

29 Pacific Quartz Surfaces LLP

30 Paradigm Stone India Pvt Ltd.

31 Pelican Buildmat Pvt Ltd.

32 Pelican Quartz Stone

33 QuartzKraft LLP

34 Renshou Industries

35 Rocks Forever

36 Safayar Ceramics Pvt Ltd.

37 Satya Exports

38 Shanmukha Exports

39 Southern Rocks and Minerals Pvt Ltd.

40 Sunex Stones Pvt Ltd.

41 Tab India Granites Pvt. Ltd.

42 Universal Marketing Agencies Private Limited

43 Universal Quartz & Natural Stones Pvt Ltd.

44 Venkata Sri Balaji Quartz Surfaces

[FR Doc. 2024-14832 Filed 7-8-24; 8:45 am]

BILLING CODE 3510-DS-P